DEPARTMENT OF HEALTH AND HUMAN SERVICES

National Institutes of Health

Interagency Coordinating Committee on the Validation of Alternative Methods; Notice of Public Webinar; Request for Public Input

AGENCY: National Institutes of Health, HHS.

ACTION: Notice.

SUMMARY: The Interagency Coordinating Committee on the Validation of Alternative Methods (ICCVAM) will hold a public forum to share information and facilitate direct communication of ideas and suggestions from stakeholders. Interested persons may participate via the web meeting platform. Time will be set aside for questions and public statements on the topics discussed. Registration is required for both webinar viewing and oral statements. Information about the meeting and registration are available at https://ntp.niehs.nih.gov/go/iccvamforum-2022.

DATES:

Webinar: May 26-27, 2022, 10:00 a.m. to approximately 4:00 p.m. EDT both days.

Registration for Webinar: April 11, 2022, until 4:00 p.m. EDT May 27, 2022.

Registration for Oral Statements: April 11, 2022, until 4:00 p.m. EDT May 20, 2022.

Registration to view the webinar and present oral public statements is required.

ADDRESSES: Webinar web page: https://ntp.niehs.nih.gov/go/iccvamforum-2022.

FOR FURTHER INFORMATION CONTACT: Dr. Nicole Kleinstreuer, Acting Director, NICEATM, email: nicole.kleinstreuer@nih.gov, telephone: (984) 287-3150.

SUPPLEMENTARY INFORMATION: Background: ICCVAM, a congressionally mandated committee, promotes the development and validation of alternative testing strategies that protect human health and the environment while replacing, reducing, or refining animal use.

ICCVAM's goals include promotion of national and international partnerships between governmental and nongovernmental groups, including academia, industry, advocacy groups, and other key stakeholders. To foster these partnerships ICCVAM convenes an annual public forum to share information and facilitate direct communication of ideas and suggestions from stakeholders (79 FR 25136).

This year's meeting will be held on May 26 and 27, 2022. Due to restrictions on in-person gatherings amid ongoing public health concerns, the public forum will be presented via webinar only. NICEATM and ICCVAM members will give presentations on member agencies' current activities related to the development and validation of alternative test methods and approaches.

There will be opportunities for registered participants to ask clarifying or follow-up questions of the ICCVAM members about their presentations during the meeting. Instructions for submitting these questions will be provided via email prior to the webinar. The agenda will also include time for public oral statements relevant to the ICCVAM mission and current activities from participants who have registered to do so in advance.

Preliminary Agenda and Other Meeting Information: A preliminary agenda will be posted by May 6 at https://ntp.niehs.nih.gov/go/iccvamforum-2022. Interested individuals are encouraged to visit this web page to stay abreast of the most current meeting information.

Webinar and Registration: This webinar is open to the public. Registration for the webinar is required and is open from April 11, 2022, through 4:00 p.m. EDT on May 27, 2022 at https://ntp.niehs.nih.gov/go/iccvamforum-2022. Interested individuals are encouraged to visit this web page to stay abreast of the most current meeting information. Registrants will receive instructions on how to access and participate in the webinar in the email confirming their registration.

Request for Oral or Written Public Statements: In addition to time for clarifying or follow-up questions following scheduled presentations, time will be allotted during the meeting for oral public statements with associated slides on topics relevant to ICCVAM's mission. Any participant registered for the webinar may ask clarifying questions during the appropriate times in the agenda. The additional registration is only required for those who wish to give separate public statements. Written public statements on topics relevant to ICCVAM's mission will also be accepted.

Separate registration for those wishing to provide oral public statements is required and is open from April 11, 2022 through May 20, 2022 at https://ntp.niehs.nih.gov/go/iccvamforum-2022. The number and length of public statement presentations may be limited based on available time. Submitters will be identified by their name and affiliation and/or sponsoring organization, if applicable. Participants registered to present oral public statements must email their statement to ICCVAMquestions@niehs.nih.gov by May 20, 2022, to allow time for review by NICEATM and ICCVAM and posting to the meeting page prior to the forum. Persons presenting oral public statements will be contacted to arrange the logistics of their presentations. If participants registered to present oral public statements wish to use accompanying slides and/or submit supplementary written material, they must email these materials to ICCVAMquestions@niehs.nih.gov by May 20, 2022. This deadline is to allow time for review by NICEATM and ICCVAM and posting to the meeting page prior to the forum.

Written statements on topics relevant to ICCVAM's mission may be submitted to support an oral public statement or as standalone documents. These should be emailed to ICCVAMquestions@niehs.nih.gov by May 20, 2022. Public statements received prior to the May 20, 2022 deadline will be distributed to NICEATM and ICCVAM members before the meeting. Written public statements received after the deadline may be reviewed by NICEATM and ICCVAM at a future date.

Materials submitted to accompany oral public statements or standalone written statements should include the submitters name, affiliation (if any), mailing address, telephone, email, and sponsoring organization (if any) with the document. National Toxicology Program guidelines for public statements are at http://ntp.niehs.nih.gov/ntp/about_ntp/guidelines_public_comments_508.pdf.

Responses to this notice are voluntary. No proprietary, classified, confidential, or sensitive information should be included in statements submitted in response to this notice or presented during the meeting. This request for input is for planning purposes only and is not a solicitation for applications or an obligation on the part of the U.S. Government to provide support for any ideas identified in response to the request. Please note that the U.S. Government will not pay for the preparation of any information submitted or for its use of that information.

Background Information on ICCVAM and NICEATM: ICCVAM is an interagency committee composed of representatives from 17 federal regulatory and research agencies that require, use, generate, or disseminate toxicological and safety testing information. ICCVAM conducts technical evaluations of new, revised, and alternative safety testing methods and integrated testing strategies with regulatory applicability. ICCVAM also promotes the scientific validation and regulatory acceptance of testing methods that more accurately assess the safety and hazards of chemicals and products and replace, reduce, or refine animal use.

The ICCVAM Authorization Act of 2000 (42 U.S.C. 285l-3) establishes ICCVAM as a permanent interagency committee of NIEHS and provides the authority for ICCVAM involvement in activities relevant to the development of alternative test methods. Additional information about ICCVAM can be found at https://ntp.niehs.nih.gov/go/iccvam.

NICEATM administers ICCVAM, provides scientific and operational support for ICCVAM-related activities, and conducts and publishes analyses and evaluations of data from new, revised, and alternative testing approaches. NICEATM and ICCVAM work collaboratively to evaluate new and improved testing approaches applicable to the needs of U.S. federal agencies. NICEATM and ICCVAM welcome the public nomination of new, revised, and alternative test methods and strategies for validation studies and technical evaluations. Additional information about NICEATM can be found at https://ntp.niehs.nih.gov/go/niceatm.

Dated: April 12, 2022.
Brian R. Berridge,
Associate Director, National Toxicology Program.

[FR Doc. 2022-09357 Filed 4-29-22; 8:45 am]

BILLING CODE 4140-01-P